ENVIRONMENTAL PROTECTION AGENCY

40 CFR Parts 60, 61, 63, 72, and 75

[FRL-7127-4]

Recent Posting to the Applicability Determination Index (ADI) Database System of Agency Applicability Determinations, Alternative Monitoring Decisions, and Regulatory Interpretations Pertaining to Standards of Performance for New Stationary Sources and National Emission Standards for Hazardous Air Pollutants

AGENCY: Environmental Protection Agency (EPA).

ACTION: Notice of availability and correction to November 15, 2001 Notice of Availability.

SUMMARY: This document announces the availability of applicability determinations, alternative monitoring decisions, and regulatory interpretations that EPA has made under the New Source Performance Standards (NSPS)(40 CFR part 60), and the National Emission Standards for Hazardous Air Pollutants (NESHAP)(40 CFR parts 61 and 63). This document also corrects and clarifies the Notice of Availability published in the Federal Register on November 15, 2001 (66 FR 57453).

FOR FURTHER INFORMATION CONTACT: An electronic copy of each complete document posted on the Applicability Determination Index (ADI) database system is available on the Internet through the ADI at: http://es.epa.gov/oeca/eptdd/adi.html. The document may be located by date, author, subpart, or subject search. For questions about the ADI or this document, contact Maria Malave at EPA by phone at: (202) 564-7027, or by e-mail at: malave.maria@epa.gov. For technical questions about the individual applicability determinations or monitoring decisions, refer to the contact person identified in the individual documents, or in the absence of a contact person, refer to the author of the document.

SUPPLEMENTARY INFORMATION:

Background

The General Provisions to the NSPS in 40 CFR part 60 and the NESHAP in 40 CFR part 61 provide that a source owner or operator may request a determination of whether certain intended actions constitute the commencement of construction, reconstruction, or modification. EPA's written responses to these inquiries are broadly termed applicability determinations. See 40 CFR 60.5 and 61.06. The NSPS and NESHAP also allow sources to seek permission to use monitoring or recordkeeping which is different from the promulgated requirements. See 40 CFR 60.13(i), 61.14(g), 63.8(b)(1), 63.8(f), and 63.10(f). EPA's written responses to these inquiries are broadly termed alternative monitoring decisions. Further, EPA responds to written inquiries about the broad range of NSPS and NESHAP regulatory requirements as they pertain to a whole source category. These inquiries may pertain, for example, to the type of sources to which the regulation applies, or to the testing, monitoring, recordkeeping or reporting requirements contained in the regulation. EPA's written responses to these inquiries are broadly termed regulatory interpretations.

EPA currently compiles EPA-issued NSPS and NESHAP applicability determinations, alternative monitoring decisions, and regulatory interpretations, and posts them on the Applicability Determination Index (ADI) on a quarterly basis. The ADI is an electronic index on the Internet with over one thousand EPA letters and memoranda pertaining to the applicability, monitoring, recordkeeping, and reporting requirements of the NSPS and NESHAP. The letters and memoranda may be searched by date, office of issuance, subpart, citation, control number or by string word searches.

Today's notice comprises a summary of 42 such documents added to the ADI on October 19, 2001. The subject, author, recipient, and date (header) of each letter and memorandum is listed in this notice, as well as a brief abstract of the letter or memorandum. Complete copies of these documents may be obtained from the ADI at http://es.epa.gov/oeca/eptdd/adi.html.

Summary of Headers and Abstracts

The following table identifies the database control number for each document posted on the ADI database system on October 19, 2001; the applicable category; the subpart(s) of 40 CFR part 60, 61, or 63 (as applicable) covered by the document; and the title of the document, which provides a brief description of the subject matter. We have also included an abstract of each document identified with its control number after the table. These abstracts are provided solely to alert the public to possible items of interest and are not intended as substitutes for the full text of the documents.

Correction to November 15, 2001 Notice of Availability

The previous Notice of Availability was published at 66 FR 57453 under the heading “Recent Posting of Agency Regulatory Interpretations Pertaining to Applicability and Monitoring for Standards of Performance for New Stationary Sources and National Emission Standards for Hazardous Air Pollutants to the Applicability Determination Index (ADI) Database System.” EPA mistakenly included in that notice the statement that “Comments on any of the documents posted on the ADI database system must be submitted on or before January 14, 2002.” Please disregard that statement and all associated statements regarding the submission of comments. EPA is not seeking comments on the documents listed in that notice, nor is it seeking comments on any of the documents contained in the ADI database.

EPA notes further that although the November 15, 2001 notice, and this notice, are sufficient to satisfy the publication provisions of 5 U.S.C. 552(a) and 42 U.S.C. 7607(b), the references to those provisions were done by mistake, and were not intended to imply that all of the documents posted on the ADI database fall within the scope of those statutory provisions. Although some of the documents on the ADI database are within the scope of those provisions, others are not, and for this reason, EPA does not refer to those provisions when the Agency publishes a quarterly Notice of Availability of the ADI database.

ADI Determinations Uploaded on October 19, 2001
Control No. | Category | Subpart | Title
M010018 | MACT | MMM | Subpart MMM Applicability to Creosote Production Facilities.
M010021 | MACT | S | Pulp and Paper MACT Alternative Monitoring.
M010019 | MACT | S | Pulp and Paper MACT Alternative Monitoring.
M010020 | MACT | S | Pulp and Paper MACT Alternative Monitoring.
M010022 | MACT | S | Pulp and Paper MACT Alternative Monitoring.
M010023 | MACT | S | Pulp and Paper MACT Alternative Monitoring.
M010024 | MACT | S | Pulp and Paper MACT Alternative Monitoring.
M010025 | MACT | I | NESHAP for Organic HAPs for Certain Processes.
M010026 | MACT | LLL | Testing to Determine Area or Major Source Status.
M010027 | MACT | A,RRR | Extension to Conduct Initial Performance Testing.
M010028 | MACT | S | Alternative Closed Collection and Vent System Monitoring.
M010029 | MACT | CC | Existing Refinery Storage Vessels Exempt from Refinery MACT.
M010030 | MACT | CC,R | Operating Parameter Monitoring Request.
M010031 | MACT | CC,R | Operating Parameter Monitoring Request.
M010032 | MACT | S | Alternative Monitoring Protocol for Bleach Plant Scrubber.
M010033 | MACT | G,H,VV | Waiver of Flare Performance Test.
M010034 | MACT | S | Pulp and Paper MACT Alternative Monitoring.
M010035 | MACT | S | Pulp and Paper MACT Alternative Monitoring.
M010036 | MACT | S | Pulp and Paper MACT Alternative Monitoring.
0100053 | NSPS | GG | Custom Fuel Monitoring Schedule.
0100054 | NSPS | GG | Alternative Test Methods Under Subpart GG.
0100055 | NSPS | Dc | Boiler Derate Proposal.
0100056 | NSPS | J | 7-Day Trial for Burning Refinery Fuel Gas in Boiler.
0100057 | NSPS | Dc | Applicability to Process Heaters.
0100058 | NSPS | QQQ | Definition of Oil-water Separator.
0100059 | NSPS | OOO | Replacement Equipment Exemption—New Production Line.
0100060 | NSPS | QQQ | Alternative Testing Procedure for Oil-water Separator.
0100061 | NSPS | SS | Applicability to Clothing Press Production Line.
0100062 | NSPS | OOO,A | Replacement of Equipment and Notification Requirements.
0100063 | NSPS | CCCC | Applicability to Wood By-product Combustor.
0100065 | NSPS | GG | Subpart GG Custom Fuel Monitoring Schedule.
0100066 | NSPS | GG,A,Da | Alternate Emission Standard and Monitoring, and Initial Performance Test.
0100067 | NSPS | GG | Use of Part 75 for Alternate Monitoring under Subpart GG.
0100068 | NSPS | GG | Use of Part 75 for Alternate Monitoring under Subpart GG.
0100069 | NSPS | GG | Alternate Test Method/Waiver of Initial Performance Test.
0100070 | NSPS | GG | Proposal to Use New Monitor for Subpart GG.
0100071 | NSPS | GG | Use of Part 75 for Alternate Monitoring under Subpart GG.
0100072 | NSPS | GG | Subpart GG Alternate Test Method/Initial Performance Test.
0100073 | NSPS | VV | Waiver of Flare Performance Test.
0100074 | NSPS | GG | Custom Fuel Monitoring Schedule.
0100075 | NSPS | GG | Custom Fuel Monitoring Schedule.
0100076 | NSPS | NNN,RRR | Applicability of NSPS to Ethanol Manufacturing Plants.

Abstracts

Abstract for (M010018)

Q1: Are creosote blend tanks subject to the storage vessel standards or the process vent standards of subpart MMM?

A1: Based on our review of the rule as currently drafted, the creosote blend tanks are subject to process vent standards.

Q2: Are coal tar and naphthalene distillation processes upstream of the creosote blend tanks pesticide active ingredient process units subject to the rule?

A2: Upstream distillation units are not pesticide active ingredient process units and therefore not part of the affected source subject to the rule.

Abstract for (010019)

Q: May a facility which is subject to the bleaching and monitoring standards found at 40 CFR 63.445(c) and 63.453(c) of the pulp and paper MACT, subpart S, monitor bleach plant scrubber influent pH/ORP rather than the effluent pH/ORP?

A: Yes. The configuration of the scrubbing system is such that the scrubbing medium is taken from the bottom of the scrubber and recirculated back to the inlet spray nozzles at the top of the scrubber. Several years of emission test data has shown chlorine (CL2) and chlorine dioxide (CLO2) emissions to be less than 1.0 ppmv, far below the 10 ppmv or less specified in subpart S.

Abstract for (010020)

Q: May a facility which is subject to the bleaching and monitoring standards found at 40 CFR 63.445(c) and 63.453(c) of the pulp and paper MACT, subpart S, monitor fan amperage for the bleaching system gas scrubber vent gas fan in lieu of monitoring vent gas inlet flow rate?

A: Yes. EPA's document for subpart S, titled “Questions and Answers (Q&As) for the Pulp and Paper NESHAP (40 CFR part 63, subpart S),” dated September 22, 1999, discusses the alternative monitoring parameter issue. See pages 8-10. It allows the monitoring of fan operation instead of gas flow rate. Allowable monitoring parameters of fan operation include fan motor amperage, on/off status, or rotational speed of the fan.

Abstract for (010021)

Q: May a facility which is subject to the bleaching and monitoring standards found at 40 CFR 63.445(c) and 63.453(c) of the pulp and paper MACT, subpart S, monitor bleach plant scrubber influent pH/ORP rather than the effluent pH/ORP?

A: Yes. The configuration of the scrubbing system is such that the scrubbing medium is taken from the bottom of the scrubber and recirculated back to the inlet spray nozzles at the top of the scrubber. Several years of emission test data has shown chlorine (CL2) and chlorine dioxide (CLO2) emissions to be less than 1.0 ppmv, far below the 10 ppmv or less specified in subpart S.

Abstract for (010022)

Q: May a facility which is subject to the bleaching and monitoring standards found at 40 CFR 63.445(c) and 63.453(c) of the pulp and paper MACT, subpart S, monitor fan amperage for the bleaching system gas scrubber vent gas fan in lieu of monitoring vent gas inlet flow rate?

A: Yes. EPA's document for subpart S, titled “Questions and Answers (Q&As) for the Pulp and Paper NESHAP (40 CFR part 63, subpart S),” dated September 22, 1999, discusses the alternative monitoring parameter issue. See pages 8-10. It allows the monitoring of fan operation instead of gas flow rate. Allowable monitoring parameters of fan operation include fan motor amperage, on/off status, or rotational speed of the fan.

Abstract for (010023)

Q: May a facility which is subject to the bleaching and monitoring standards found at 40 CFR 63.445(c) and 63.453(c) of the pulp and paper MACT, subpart S, monitor bleach plant scrubber influent pH/ORP rather than the effluent pH/ORP?

A: Yes. The configuration of the scrubbing system is such that the scrubbing medium is taken from the bottom of the scrubber and recirculated back to the inlet spray nozzles at the top of the scrubber. Several years of emission test data has shown chlorine (CL2) and chlorine dioxide (CLO2) emissions to be less than 1.0 ppmv, far below the 10 ppmv or less specified in subpart S.

Abstract for (010024)

Q: May a facility which is subject to the monitoring and inspection procedures for closed collection and vent systems found at 40 CFR 63.443(c), 63.453(k) and (l) of the pulp and paper MACT, subpart S, request approval for alternative provisions for inspection, monitoring of closed collection and vent systems?

A: Yes. The requested alternatives are consistent with requirements in other existing standards, such as the Hazardous Organic National Emission Standards for Hazardous Air Pollutants.

Abstract for (010025)

Q: A facility operates a toner process in which a styrene-butadiene rubber copolymer is manufactured; however, the affected equipment has not operated in hazardous air pollutant (HAP) service for greater than 300 operating hours per year. Is the facility subject to subpart I?

A: No. EPA has determined that the toner process described meets the definition of styrene-butadiene rubber production. However, because the facility has not operated the affected equipment in HAP service greater than 300 operating hours per year, the equipment is not subject to subpart I.

Abstract for (010026)

Q: Does the portland cement MACT require the facility in question to conduct performance tests to determine its status as an area or major source?

A: No, testing is not required. With its current emission profile, the facility is an area source.

Abstract for (010027)

Q: May the deadline by which a performance test for a secondary aluminum processing unit is conducted be extended beyond 180 days of the initial startup?

A: No. The general provisions at 40 CFR 63.7 allow for the rescheduling of testing, but they do not allow testing to be scheduled beyond 180 days of the initial startup if the initial startup date is after the effective date of the relevant standard.

Abstract for (010028)

Q: May a facility conduct closed vent system inspections once a month, rather than once every 30 days as required by 40 CFR 63.453(k)?

A: Yes. The facility may conduct closed vent system inspections once during the calendar month as long as at least 21 days elapse between inspections.

Abstract for (010029)

Q: Are 45 existing storage vessels at the Koch refinery in Pine Bend, Minnesota subject to the refinery MACT?

A: No. The vessels must meet 40 CFR part 60, subpart Kb. The storage vessel provisions in the refinery MACT are very similar to those in subpart Kb. A 1992 Prevention of Significant Deterioration (PSD) permit required Koch to comply with subpart Kb, and the State issued the PSD permit before EPA proposed the refinery MACT.

Abstract for (010030)

Q: Will EPA approve the selected operating parameter and its value for continuous monitoring at the Track 8 rail loading rack at the Koch refinery in Pine Bend, Minnesota?

A: Yes. The flare demonstrated compliance with the standards in 40 CFR 63.11(b). The presence of a pilot light will adequately demonstrate compliance with the emission standard in 40 CFR 63.422(b).

Q: Will EPA approve the selected operating parameter and its value for continuous monitoring at the tank truck bottom loading rack at the Koch refinery?

A: No. Reporting on a single operating parameter, the total volatile organic compound (VOC) concentration at the vapor recovery unit outlet, does not account for the effects of temperature, barometric pressure, volumetric flow, and rate of gasoline loading.

Abstract for (010031)

Q: Will EPA approve the selected operating parameter for continuous monitoring and the parameter's value for the tank truck bottom loading rack at the Koch refinery in Pine Bend, Minnesota?

A: Yes. Additional data shows that a total VOC concentration of 2350 ppmv as a 6-hour average at the vapor recovery unit outlet will demonstrate compliance with the emission standard at 40 CFR 63.422(b).

Abstract for (010032)

Q: Will EPA approve an alternative monitoring method for the Mead, Chillicothe, Ohio paper mill that uses on/off status as an operational parameter indicating the operating status of the fan used to convey gases to the bleach plant scrubber?

A: Yes. Graphs indicating the operating status of the fan will be used to monitor and record the on/off status. The performance test must show compliance with the fan operating at maximum speed.

Abstract for (010033)

Q: May the BP Chemicals facility waive the requirement to conduct initial performance testing of the Butanediol Plant flare?

A: No. BP Chemicals cannot waive the requirement to conduct initial performance testing of the Butanediol Plant flare. Current methods for initial performance testing of flares are applicable to BP Chemicals.

Abstract for (010034)

Q: May a facility which is subject to the bleaching and monitoring standards found at 40 CFR 63.445(c) and 63.453(c) of the pulp and paper MACT, subpart S, monitor fan amperage for the bleaching system gas scrubber vent gas fan in lieu of monitoring vent gas inlet flow rate?

A: Yes. EPA's document for Subpart S, titled “Questions and Answers (Q&As) for the Pulp and Paper NESHAP, (40 CFR part 63, subpart S),” dated September 22, 1999, discusses the alternative monitoring parameter issue. See pages 8 through 10. It allows the monitoring of fan operation instead of gas flow rate. Allowable monitoring parameters of fan operation include fan motor amperage, on/off status, or rotational speed of the fan.

Abstract for (010035)

Q: May a facility which is subject to the bleaching and monitoring standards found at 40 CFR 63.445(c) and 63.453(c) of the pulp and paper MACT, subpart S, monitor bleach plant scrubber influent pH/ORP rather than the effluent pH/ORP?

A: Yes. The configuration of the scrubbing system is such that the scrubbing medium is taken from the bottom of the scrubber and recirculated back to the inlet spray nozzles at the top of the scrubber. Several years of emission test data has shown chlorine (CL2) and chlorine dioxide (CLO2) emissions to be less than 1.0 ppmv, far below the 10 ppmv or less specified in subpart S.

Abstract for (010036)

Q: May a facility which is subject to the bleaching and monitoring standards found at 40 CFR 63.445(c) and 63.453(c) of the pulp and paper MACT, subpart S, monitor fan amperage for the bleaching system gas scrubber vent gas fan in lieu of monitoring vent gas inlet flow rate?

A: Yes. EPA's document for Subpart S, titled “Questions and Answers (Q&As) for the Pulp and Paper NESHAP 40 CFR part 63, subpart S,” dated September 22, 1999, discusses the alternative monitoring parameter issue. See pages 8 through 10. It allows the monitoring of fan operation instead of gas flow rate. Allowable monitoring parameters of fan operation include fan motor amperage, on/off status, or rotational speed of the fan.

Abstract for (100053)

Q: Will EPA approve a custom fuel monitoring schedule under Subpart GG for a facility whose turbines combust only pipeline-quality natural gas?

A: Yes. Because the turbines combust only pipeline-quality natural gas fuel, EPA will approve the custom fuel monitoring schedule according to established EPA National Policy.

Abstract for (0100054)

Q: Will EPA approve alternative test methods under Subpart GG and the waiver of various other test requirements for the three new gas turbines to be installed at Conectiv's Hay Road Power Complex in Wilmington, Delaware?

A: EPA will approve some of the alternative testing methods but not all of them as the State of Delaware is requiring strict NSPS testing compliance through their own permitting authority.

Abstract for (100055)

Q: Will EPA approve a boiler deration proposal under Subpart Dc?

A: EPA will approve a boiler deration proposal that meets federal policy on being a permanent change to the steam output capacity of the boiler which cannot be easily reversed.

Abstract for (0100056)

Q: May a facility operate its new Wickes boiler on refinery fuel gas for a 7 day trial period prior to installing a continuous emission monitor (CEM) for sulfur dioxide?

A: Yes, EPA will allow this short trial period for selecting the correct CEM and ensuring proper boiler operation on the waste gas fuel. This is with the understanding that the facility will be sampling and analyzing the waste gas fuel for H2S content every 4 hours during the trial period.

Abstract for (0100057)

Q: Two natural gas fired heaters are used to heat TiCl4 and pure oxygen prior to being reacted. Are the two heaters subject to subpart Dc?

A: No. The subpart Dc affected facility is identified as a steam generating unit. Since the definition of a steam generating unit excludes process heaters, the two heaters are not subject to subpart Dc.

Abstract for (0100058)

Q: Two tanks which are subject to NSPS subpart Kb serve primarily as surge and equalization tanks and separate oil and water as an incidental function. Are the two tanks considered storage vessels or oil-water separator tanks, and are they exempt from 40 CFR 60.692 and 60.693?

A: The two tanks are considered storage vessels under subpart QQQ rather than oil-water separator tanks. Since the two tanks are subject to the standards specified at 40 CFR 60.112b, subpart Kb, they are not regulated by subpart QQQ due to the exemption provided in 40 CFR 60.692 through 60.693(d).

Abstract for (0100059)

Q: A new production line is being constructed at a nonmetallic mineral processing plant which will include affected facilities constructed after the subpart OOO applicability date and a crusher which was constructed prior to the applicability date. Will any of the affected facilities be subject to subpart OOO prior to the modification or reconstruction of the crusher?

A: Yes. All affected facilities in the production line would be subject to subpart OOO except for the crusher. The exemption provided in 40 CFR 60.670(d)(1) only applies to the replacement of an existing facility with equipment of equal or smaller size having the same function as the existing facility. The use of a crusher which was constructed prior to the applicability date would not cause all other affected facilities in the new production line to be exempt under 40 CFR 60.670(d).

Abstract for (0100060)

Q: A double seal, internal floating roof is being used on an oil-water separator to comply with the standard provided in 40 CFR 60.692 through 60.693. Is the subpart Ka testing (inspection) standard acceptable as an alternative to the subpart QQQ inspection procedures?

A: No. Since subpart Ka does not require any type of periodic inspections for internal floating roofs, the proposal is not appropriate. However, the use of subpart Kb inspection procedures for internal floating roofs provided in 40 CFR 60.113b(a) would be acceptable.

Abstract for (0100061)

Q: Does NSPS, subpart SS, apply to surface coating operations used to paint clothing press parts and the surface of the clothing presses?

A: No. The subpart SS affected facility is each surface coating operation in a large appliance surface coating line. Since a clothing press is not identified in subpart SS as a large appliance product, the surface coating of clothing presses is not regulated.

Abstract for (0100062)

Q: Is a piece of equipment which is covered by the exemption in 40 CFR 60.670(d)(1) considered an affected facility which is subject to the notification requirements of 40 CFR 60.7?

A: Yes. When a piece of equipment is replaced with equipment of equal or smaller size, the replacement equipment is an affected facility subject to subpart OOO, even though the exemption in 40 CFR 60.670(d) may apply.

Abstract for (0100063)

Q: Is a wood by-product combustor subject to the Commercial and Industrial Solid Waste Incineration NSPS, subpart CCCC?

A: No. Because the wood by-product combustor has heat recovery that is used to heat the ventilation make-up air, and the combustor is only operated during the cold winter months when this heat is needed, it is not subject NSPS, subpart CCCC.

Abstract for (0100064)

Q: May the El Paso Company obtain a relaxed sulfur-in-fuel monitoring schedule under 40 CFR part 60, subpart GG, for the operation of a 70 MMBtu/hr compressor station operating solely on natural gas?

A: Yes. EPA routinely grants custom monitoring schedules under NSPS, subpart GG, for facilities burning low sulfur fuels.

Abstract for (0100065)

Question: May the UAE Lowell LLC facility obtain a relaxed sulfur-in-fuel monitoring schedule under 40 CFR part 60, subpart GG for the operation of a 90 MW stationary gas turbine with a primary fuel of natural gas and a secondary fuel of very-low sulfur distillate oil?

Answer: Yes, EPA routinely grants custom monitoring schedules under NSPS, subpart GG for facilities burning low sulfur fuels.

Abstract for (0100066)

Q1: May the Ameren facility demonstrate compliance with 40 CFR part 60, subpart GG using the allowable NOX emission rate in 40 CFR part 60, subpart Da (1.6 lb/MW-hr) as a limit on each entire combined cycle turbine?

A1: Yes. Ameren may use the more stringent emission limit of 1.6 lb/MW-hr NOX at 40 CFR part 60, subpart Da on the entire combined cycle turbine in lieu of monitoring separately under 40 CFR part 60, subpart Da and 40 CFR part 60, subpart GG.

Q2: May the Ameren facility receive a waiver of the initial performance testing for NOX at 40 CFR part 60, subpart GG?

A2: No. Ameren may not waive the initial performance testing required by 40 CFR part 60, subpart GG. However, U.S. EPA does waive the requirement to test at all four loads.

Q3: May the Ameren facility use NOX CEMs for demonstrating compliance with 40 CFR part 60, subpart GG in lieu of fuel nitrogen monitoring?

A3. Yes. Ameren may use NOX CEMs to demonstrate compliance with 40 CFR part 60, subpart GG in lieu of fuel nitrogen monitoring.

Abstract for (0100067)

Q1: May the Cascade Creek facility use 40 CFR part 75 NOX CEMs in lieu of monitoring for NOX as required at 40 CFR part 60, subpart GG?

A1: Yes. Cascade Creek may use 40 CFR part 75 NOX CEMs in lieu of monitoring for NOX as required at 40 CFR part 60, subpart GG. This approval is based on certain conditions outlined in the approval letter.

Q2: May the Cascade Creek facility use RATA test data obtained during CEM certification, as required by 40 CFR part 75, to demonstrate initial compliance with NOX limits at 40 CFR part 60, subpart GG in lieu of fuel monitoring for nitrogen content?

A2: Yes. Cascade Creek may use RATA data to demonstrate initial compliance with 40 CFR part 60, subpart GG.

Q3: May the Cascade Creek facility use fuel monitoring requirements for natural gas and number 2 fuel oil at 40 CFR part 75, appendix D in lieu of fuel monitoring required by 40 CFR part 60, subpart GG?

A3: Yes. Cascade Creek may use fuel monitoring requirements for natural gas and number 2 fuel oil at 40 CFR part 75, appendix D in lieu of fuel monitoring required by 40 CFR part 60, subpart GG?

Abstract for (0100068)

Q1: May the City of Chaska use newer ASTM methods for fuel sulfur content monitoring at 40 CFR part 75 at the Minnesota Municipal Power Agency's Minnesota River Station when burning fuel oil, in lieu of methods ASTM at 40 CFR part 60, subpart GG?

A1: Yes. The City of Chaska may use newer ASTM methods given in 40 CFR part 75 for determining sulfur content of fuel when fuel oil is burned.

Q2: May the City of Chaska use a correlation graph developed in accordance with 40 CFR part 75, appendix E, to determine compliance with NOX emission limits at the Minnesota Municipal Power Agency's Minnesota River Station when burning fuel oil, in lieu of methods at 40 CFR part 60, subpart GG?

A2: Yes. The City of Chaska may use a correlation graph developed in accordance with 40 CFR part 75, appendix E when burning either fuel oil or pipeline natural gas in lieu of methods at 40 CFR part 60, subpart GG. This approval is granted only if the turbines using the turbines are peaking units as defined at 40 CFR 72.2.

Q3: May the City of Chaska use the default value of 0.0006 pounds of sulfur per million BTU of heat input and monitor the amount of natural gas burned to determine sulfur emissions in accordance with 40 CFR part 75 at the Minnesota Municipal Power Agency's Minnesota River Station when burning pipeline natural gas, in lieu of sulfur monitoring at 40 CFR part 60, subpart GG?

A3: Yes. The City of Chaska may use the default value of 0.0006 pounds of sulfur per million BTU of heat input and monitor the amount of natural gas burned to determine sulfur emissions in accordance with 40 CFR part 75 in lieu of sulfur monitoring at 40 CFR part 60, subpart GG. This approval is acceptable only when pipeline natural gas is being burned as fuel in the turbines.

Abstract for (0100069)

Q1: May the Lakefield Junction facility use 40 CFR part 75 NOX CEMs in lieu of monitoring for NOX as required at 40 CFR part 60, subpart GG?

A1: Yes. Lakefield Junction may use 40 CFR part 75 NOXCEMs in lieu of monitoring for NOX as required at 40 CFR part 60, subpart GG. This approval is based on certain conditions outlined in the approval letter.

Q2: May the Lakefield Junction facility use the custom monitoring schedule for sulfur content in fuel as outlined in the August 14, 1987 memorandum from John Rasnic for the six turbines being installed and all future turbines installed?

A2: Yes. Lakefield Junction may use the custom monitoring schedule for sulfur content for the six turbines being installed. This approval is not extended to all future turbines which may be installed. Future turbine installation will require a new determination request be made by the facility.

Q3: May the Lakefield Junction facility use CEM certification data required by 40 CFR part 75 to demonstrate initial compliance in lieu of Reference Method 20?

A3: U.S. EPA Region 5 has not been delegated authority to approve alternative test methods as proposed by Lakefield Junction. The Regional Office is, however, delegated authority to waive initial performance tests when compliance has been demonstrated by other means. U.S. EPA Region 5 does, therefore, waive the initial performance test requirements for NOX under 40 CFR part 60, subpart GG. This waiver is approved only if certain conditions are met.

Q4: Will U.S. EPA Region 5 rescind the determination made in a letter dated September 8, 1999 addressed to MPCA?

A4: Yes. U.S. EPA Region 5 rescinds the determination made for Lakefield Junction, through MPCA, on September 8, 1999.

Abstract for (0100070):

Q: May the Northern Natural Gas Company and Northern Border Pipeline Company use a new monitor for determining sulfur content in fuel for demonstrating compliance with 40 CFR part 60, subpart GG?

A: No determination was made. Additional information is necessary to clarify the facility's requests.

Abstract for (0100071):

Q1: May the DP&L facility use NOX CEMs for in lieu of fuel monitoring requirements for nitrogen given at 40 CFR part 60, subpart GG?

A1: Yes. DP&L may use CEMs as required by the acid rain program to demonstrate compliance with NOX limits in 40 CFR part 60, subpart GG. This approval is granted so long as listed conditions are met.

Q2: May the DP&L facility get a waiver of the requirements to correct NOX CEM emission data to ISO conditions?

A2: Yes. DP&L may waive the requirement to convert results to ISO conditions, so long as all data necessary for the conversion is still maintained.

Q3: May the DP&L facility use RATA results obtained during certification of the NOX CEMs to demonstrate initial compliance with 40 CFR part 60, subpart GG?

A3: Yes. DP&L may use RATA results to demonstrate initial compliance with NOX limits for NSPS subpart GG so long as certain conditions are met.

Q4: May the DP&L facility use fuel monitoring provisions for sulfur at 40 CFR part 75, in lieu of fuel monitoring provisions for sulfur given at 40 CFR part 60, subpart GG?

A4: Yes. DP&L may use monitoring provisions at 40 CFR part 75 for sulfur content in fuel in lieu of fuel monitoring requirements given at 40 CFR part 60, subpart GG.

Abstract for (0100072)

Q1: May the DP&L facility conduct initial performance testing of all turbines identified at base load only?

A1: Yes. DP&L may conduct initial performance testing at base load if certain conditions are met.

Q2: May DP&L use Method 7E in lieu of Method 20 for demonstrating initial compliance with NOX for NSPS subpart GG?

A2: Yes. DP&L may use Method 7E to demonstrate initial compliance with NSPS subpart GG. This approval was granted by the Emissions, Monitoring and Analysis Division in the Office of Air Quality Planning and Standards, in a memorandum to George Czerniak.

Abstract for (0100073)

Q: May the BP Chemicals facility waive the requirement to conduct initial performance testing of the Butanediol Plant flare?

A: No. BP Chemicals cannot waive the requirement to conduct initial performance testing of the Butanediol Plant flare. Current methods for initial performance testing of flares are applicable to BP Chemicals.

Abstract for (0100074)

Q: Will EPA Region III approve a custom fuel monitoring schedule for sulfur content under 40 CFR part 60, subpart GG?

A: Yes. EPA has National Policy in regard to fuel sampling and analysis for sulfur content under subpart GG for stationary gas turbines that combust pipeline-quality natural gas fuel.

Abstract for (0100075)

Q: Will EPA Region III approve a custom fuel monitoring schedule for Wolf Hills Energy Under 40 CFR part 60, subpart GG?

A: Yes. Because the request meets the conditions of EPA's National Policy on such schedules, EPA Region III will approve the request.

Abstract for (0100076)

Q: Are ethanol manufacturing facilities exempt from the requirements of 40 CFR part 60, subparts RRR and NNN?

A: Yes. EPA has previously determined that ethanol manufacturing facilities may be exempt from NSPS, subparts RRR and NNN, on a case-by-case basis. In this instance, the ethanol facilities in question use a biological process to ferment the converted starches in corn into ethanol. These subparts did not envision unit operations for biological processes.

Dated: January 4, 2002.
Lisa C. Lund,
Acting Director, Office of Compliance.

[FR Doc. 02-624 Filed 1-9-02; 8:45 am]

BILLING CODE 6560-50-P